DEPARTMENT OF HOMELAND SECURITY

Federal Emergency Management Agency

[Docket ID FEMA-2012-0003; Internal Agency Docket No. FEMA-B-1252]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Jefferson | City of Birmingham (11-04-6111P) | The Honorable William Bell, Mayor, City of Birmingham, 710 North 20th Street, Birmingham, AL 35203 | Planning and Engineering Office, 710 North 20th Street, 5th floor, Birmingham, AL 35203 | http://www.bakeraecom.com/index.php/alabama/jefferson-3/ | June 25, 2012 | 010116
Mobile | Unincorporated areas of Mobile County (11-04-5872P) | The Honorable Connie Hudson, President, Mobile County Commission, P.O. Box 1443, Mobile, AL 36633 | Mobile County Government Plaza, 205 Government Street, 3rd Floor, South Tower, Mobile, AL 36644 | http://www.bakeraecom.com/index.php/alabama/mobile/ | July 9, 2012 | 015008
Mobile | Unincorporated areas of Mobile County (11-04-6441P) | The Honorable Connie Hudson, President, Mobile County Commission, P.O. Box 1443, Mobile, AL 36633 | Mobile County Government Plaza, 205 Government Street, 3rd Floor, South Tower, Mobile, AL 36644 | http://www.bakeraecom.com/index.php/alabama/mobile/ | July 9, 2012 | 015008
Arizona:
Coconino | City of Flagstaff (11-09-3784P) | The Honorable Sara Presler, Mayor, City of Flagstaff, 211 West Aspen Avenue, Flagstaff, AZ 86001 | City Hall, Stormwater Management Section, 211 West Aspen Avenue, Flagstaff, AZ 86001 | http://www.bakeraecom.com/index.php/arizona/coconino-county/ | June 4, 2012 | 040020
Coconino | City of Flagstaff (11-09-3786P) | The Honorable Sara Presler, Mayor, City of Flagstaff, 211 West Aspen Avenue, Flagstaff, AZ 86001 | City Hall, Stormwater Management Section, 211 West Aspen Avenue, Flagstaff, AZ 86001 | http://www.bakeraecom.com/index.php/arizona/coconino-county/ | June 29, 2012 | 040020
Pinal | City of Eloy (11-09-3507P) | The Honorable Byron K. Jackson, Mayor, City of Eloy, 628 North Main Street, Eloy, AZ 85131 | 628 North Main Street, Eloy, AZ 85131 | http://www.bakeraecom.com/index.php/arizona/pinal-county/ | June 15, 2012 | 040083
Santa Cruz | Unincorporated areas of Santa Cruz County (11-09-3703P) | The Honorable Rudy Molera, Chairman, Santa Cruz County Board of Supervisors, 2150 North Congress Drive, Nogales, AZ 85621 | 2150 North Congress Drive, Room 117, Nogales, AZ 85621 | http://www.bakeraecom.com/index.php/arizona/santa-cruz-county/ | June 18, 2012 | 040090
Arkansas:
Pulaski | City of Little Rock (11-06-4271P) | The Honorable Mark Stodola, Mayor, City of Little Rock, 500 West Markham Street, Room 203, Little Rock, AR 72201 | Department of Public Works, 701 West Markham Street, Little Rock, AR 72201 | http://www.rampp-team.com/lomrs.htm | June 6, 2012 | 050181
Pulaski | Unincorporated areas of Pulaski County (11-06-4271P) | The Honorable Floyd G. Villines, Pulaski County Judge, 201 South Broadway Street, Suite 400, Little Rock, AR 72201 | 501 West Markham Street, Suite A, Little Rock, AR 72201 | http://www.rampp-team.com/lomrs.htm | June 6, 2012 | 050179
California:
Los Angeles | City of Burbank (11-09-3187P) | The Honorable Jess Talamantes, Mayor, City of Burbank, 275 East Olive Avenue, Burbank, CA 91502 | Public Works Department, 150 North 3rd Street, Burbank, CA 91502 | http://www.bakeraecom.com/index.php/california/los-angeles-county/ | June 28, 2012 | 065018
Los Angeles | City of Burbank (12-09-0407P) | The Honorable Jess Talamantes, Mayor, City of Burbank, 275 East Olive Avenue, Burbank, CA 91502 | Public Works Department, 150 North 3rd Street, Burbank, CA 91502 | http://www.bakeraecom.com/index.php/california/los-angeles-county/ | June 25, 2012 | 065018
Los Angeles | City of Los Angeles (12-09-0407) | The Honorable Antonio R. Villaraigosa, Mayor, City of Los Angeles, City Hall, 200 North Spring Street, Los Angeles, CA 90012 | 6500 South Spring Street, Suite 1200, Los Angeles, CA 90014 | http://www.bakeraecom.com/index.php/california/los-angeles-county/ | June 25, 2012 | 060137
Los Angeles | City of Santa Clarita (12-09-0632P) | The Honorable Laurie Ender, Mayor, City of Santa Clarita, 23920 West Valencia Boulevard, Santa Clarita, CA 91355 | 23920 West Valencia Boulevard, Suite 300, Santa Clarita, CA 91355 | http://www.bakeraecom.com/index.php/california/los-angeles-county/ | June 15, 2012 | 060729
Los Angeles | Unincorporated areas of Los Angeles County (11-09-4035P) | The Honorable Zev Yaroslavsky, Chairman, Los Angeles County Board of Supervisors, 500 West Temple Street, Room 821, Los Angeles, CA 90012 | Department of Public Works, 900 South Fremont Avenue, Alhambra, CA 91803 | http://www.bakeraecom.com/index.php/california/los-angeles-county/ | June 25, 2012 | 065043
Colorado:
Adams | City of Commerce City (11-08-0747P) | The Honorable Sean Ford, Sr., Mayor, City of Commerce City, 7887 East 60th Avenue, Commerce City, CO 80022 | 5291 East 60th Avenue, Commerce City, CO 80022 | http://www.bakeraecom.com/index.php/colorado/adams/ | June 13, 2012 | 080006
Adams | City of Commerce City (11-08-0367P) | The Honorable Sean Ford, Sr., Mayor, City of Commerce City, 7887 East 60th Avenue, Commerce City, CO 80022 | 5291 East 60th Avenue, Commerce City, CO 80022 | http://www.bakeraecom.com/index.php/colorado/adams/ | April 11, 2012 | 080006
Adams | Unincorporated areas of Adams County (11-08-0747P) | The Honorable W.R. “Skip” Fischer, Chairman, Adams County Board of Commissioners, 4430 South Adams County Parkway, 5th Floor, Suite C5000A, Brighton, CO 80601 | 4430 South Adams Parkway, 5th Floor, Suite C5000A, Brighton, CO 80601 | http://www.bakeraecom.com/index.php/colorado/adams/ | June 13, 2012 | 080001
Larimer | Town of Timnath (11-08-1110P) | The Honorable Jill Grossman-Belisle, Mayor, Town of Timnath, 4800 Goodman Street, Timnath, CO 80547 | 4100 Main Street, Timnath, CO 80547 | http://www.bakeraecom.com/index.php/colorado/larimer/ | June 18, 2012 | 080005
Larimer | Unincorporated areas of Larimer County (11-08-1110P) | The Honorable Lew Gaiter III, Chairman, Larimer County Board of Commissioners, P.O. Box 1190, Fort Collins, CO 80522 | 200 West Oak Street, Fort Collins, CO 80521 | http://www.bakeraecom.com/index.php/colorado/larimer/ | June 18, 2012 | 080101
Park | Unincorporated areas of Park County (11-08-1151P) | The Honorable Dick Hodges, Chairman, Park County Board of Commissioners, P.O. Box 1373, Fairplay, CO 80440 | 501 Main Street, Fairplay, CO 80440 | http://www.bakeraecom.com/index.php/colorado/park/ | June 18, 2012 | 080139
Connecticut:
Hartford | Town of Avon (12-01-0826X) | The Honorable Mark Zacchio, Chairman, Avon Town Council, 60 West Main Street, Avon, CT 06001 | Town Hall, 60 West Main Street, Avon, CT 06001 | http://www.starr-team.com/starr/LOMR/Pages/RegionI.aspx | June 18, 2012 | 090021
Florida:
Charlotte | City of Punta Gorda (12-04-1783P) | The Honorable Bill Albers, Mayor, City of Punta Gorda, 326 West Marion Avenue, Punta Gorda, FL 33950 | 326 West Marion, Punta Gorda, FL 33950 | http://www.bakeraecom.com/index.php/florida/charlotte/ | June 18, 2012 | 120062
Monroe | Unincorporated areas of Monroe County (12-04-0296P) | The Honorable Kim Wigington, Mayor Pro Tem, Monroe County, 500 Whitehead Street, Suite 102, Key West, FL 33040 | Monroe County Department of Planning and Environmental Resources, 2798 Overseas Highway, Marathon, FL 33050 | http://www.bakeraecom.com/index.php/florida/monroe-3/ | June 11, 2012 | 125129
Santa Rosa | Unincorporated areas of Santa Rosa County (11-04-7398P) | The Honorable Jim Williamson, Chairman, Santa Rosa County Commissioners, 6495 Caroline Street, Suite M, Milton, FL 32570 | Building Inspections, 6051 Old Bagdad Highway, Suite 202, Milton, FL 32583 | http://www.bakeraecom.com/index.php/florida/santa-rosa/ | June 28, 2012 | 120274
Santa Rosa | Unincorporated areas of Santa Rosa County (11-04-7400P) | The Honorable Jim Williamson, Chairman, Santa Rosa County Commissioners, 6495 Caroline Street, Suite M, Milton, FL 32570 | Building Inspections, 6051 Old Bagdad Highway, Suite 202, Milton, FL 32583 | http://www.bakeraecom.com/index.php/florida/santa-rosa/ | June 28, 2012 | 120274
Kentucky:
Fayette | Lexington-Fayette Urban County Government (12-04-1259P) | The Honorable Jim Gray, Mayor, Lexington-Fayette Urban County Government, 200 East Main Street, Lexington, KY 40507 | Division of Planning, Current Planning Section, 101 East Vine Street, Lexington, KY 40507 | http://www.bakeraecom.com/index.php/kentucky/fayette/ | June 18, 2012 | 210067
South Dakota:
Lincoln | Town of Tea (11-08-0969P) | The Honorable John Lawler, Mayor, Town of Tea, P.O. Box 128, Tea, SD 57064 | City Hall, 600 East 1st Street, Tea, SD 57064 | http://www.bakeraecom.com/index.php/south-dakota/lincoln-4/ | June 18, 2012 | 460143
Texas:
Bell | City of Harker Heights (11-06-1826P) | The Honorable Mike Aycock, Mayor, City of Harker Heights, 1300 East FM 2410, Harker Heights, TX 76548 | 305 Miller's Crossing, Harker Heights, TX 76548 | http://www.rampp-team.com/lomrs.htm | May 30, 2012 | 480029
Collin | City of Richardson (12-06-0547X) | The Honorable Bob Townsend, Mayor, City of Richardson, 411 West Arapaho Road, Richardson, TX 75080 | City Hall, 411 West Arapaho Road, Richardson, TX 75080 | http://www.rampp-team.com/lomrs.htm | June 22, 2012 | 480184
Denton | Town of Little Elm (12-06-0531P) | The Honorable Charles Platt, Mayor, Town of Little Elm, 100 West Eldorado Parkway, Little Elm, TX 75068 | Town Hall, 100 West Eldorado Parkway, Little Elm, TX 75068 | http://www.rampp-team.com/lomrs.htm | June 4, 2012 | 481152
Harris | Unincorporated areas of Harris County (12-06-0410P) | The Honorable Ed Emmett, Harris County Judge, 1001 Preston Street, Suite 911, Houston, TX 77002 | 10555 Northwest Freeway, Houston, TX 77092 | http://www.rampp-team.com/lomrs.htm | June 20, 2012 | 480287
Jefferson | City of Beaumont (12-06-0696X) | The Honorable Becky Ames, Mayor, City of Beaumont, 801 Main Street, Beaumont, TX 77701 | Beaumont City Hall, 801 Main Street, Beaumont, TX 77701 | http://www.rampp-team.com/lomrs.htm | June 25, 2012 | 485457
Johnson | City of Burleson (11-06-1749P) | The Honorable Ken D. Shetter, Mayor, City of Burleson, 141 West Renfro Street, Burleson, TX 76028 | 141 West Renfro Street, Burleson, TX 76028 | http://www.rampp-team.com/lomrs.htm | June 21, 2012 | 485459
Tarrant | City of North Richland Hills (11-06-2556P) | The Honorable T. Oscar Trevino, Jr., P.E., Mayor, City of North Richland Hills, 7301 Northeast Loop 820, North Richland Hills, TX 76180 | 7301 Northeast Loop 820, North Richland Hills, TX 76180 | http://www.rampp-team.com/lomrs.htm | May 25, 2012 | 480607
Victoria | City of Victoria (12-06-0680X) | The Honorable Will Armstrong, Mayor, City of Victoria, 105 West Juan Linn Street, Victoria, TX 77901 | 702 North Main Street, Suite 115, Victoria, TX 77902 | http://www.rampp-team.com/lomrs.htm | June 1, 2012 | 480638
Virginia: Frederick | Unincorporated areas of Frederick County (11-03-0806P) | The Honorable Richard C. Shickle, Chairman, Frederick County Board of Supervisors, 107 North Kent Street, Winchester, VA 22601 | Planning and Development Office, 107 North Kent Street, Suite 202, Winchester, VA 22601 | http://www.rampp-team.com/lomrs.htm | June 8, 2012 | 510063

(Catalog of Federal Domestic Assistance No. 97.022, “Flood Insurance.”)

Sandra K. Knight,
Deputy Associate Administrator for Mitigation, Department of Homeland Security, Federal Emergency Management Agency.

[FR Doc. 2012-16361 Filed 7-3-12; 8:45 am]

BILLING CODE 9110-12-P